DEPARTMENT OF ENERGY

Federal Energy Regulatory Commission

[Docket No. AC04-68-000, et al.]

East Texas Electric Cooperative, Inc., et al.; Electric Rate and Corporate Filings

July 21, 2004.

The following filings have been made with the Commission. The filings are listed in ascending order within each docket classification.

1. East Texas Electric Cooperative, Inc.

[Docket No. AC04-68-000]

Take notice that on June 28, 2004, East Texas Electric Cooperative, Inc. (ETEC) tendered for filing copies of the accounting entries for the transfer of certain facilities from Entergy Power Ventures, L.P. and Warren Power, LLC to ETEC in compliance with the Commission's Order dated May 28, 2004, in Docket No. EC04-66-000.

Comment Date: 5 p.m. eastern time on August 11, 2004.

2. Cadillac Renewable Energy LLC and Primary Power Management and Development, Inc. d/b/a Primary Power International

[Docket Nos. EC04-132-000 and ER98-4515-002]

Take notice that on July 19, 2004, Cadillac Renewable Energy LLC (CRE) and Primary Power Management and Development, Inc. d/b/a Primary Power International (PPI) (together, Applicants) filed with the Federal Energy Regulatory Commission an application for authorization under section 203 of the Federal Power Act and notice of change in status with respect to the disposition of jurisdictional assets relating to the transfer of 100 percent of the membership interests in CRE to PPI. Applicants request confidential treatment for (1) the Stock Purchase Agreement between NRG Energy, Inc. and PPI dated January 29, 2004; and (2) the Memorandum of Understanding dated April 22, 2004, between Decker Energy International, Inc. and PPI, each of which is attached as Exhibit I to the Application.

Comment Date: 5 p.m. eastern time on August 9, 2004.

3. Coral Power, L.L.C and Constellation Power Source, Inc.

[Docket Nos. EC04-133-000; ER97-2261-016; and ER96-25-025]

Take notice that on July 19, 2004, Coral Power, L.L.C. (Coral Power) and Constellation Power Source, Inc. (CPS) (collectively, Applicants) filed an application under section 203 of the Federal Power Act requesting Commission authorization for the transfer of a full requirements service agreement with Baltimore Gas and Electric Company from Coral to CPS. Applicants have requested confidential treatment of the contents of Exhibit G and Exhibit I to the section 203 application. Applicants also seek to give a notice of change in status that will result from the proposed transaction.

Comment Date: 5 p.m. eastern time on August 9, 2004.

4. PJM Interconnection, L.L.C.

[Docket Nos. EL03-236-002]

Take notice that on July 16, 2004, PJM Interconnection, L.L.C. (PJM), in compliance with the Commission's order in PJM Interconnection, L.L.C., 107 FERC ¶ 61,112 (2004), filed amendments to the PJM Open Access Transmission Tariff and the Amended and Restated Operating Agreement of PJM Interconnection, L.L.C. to revise the procedures for suspending offer capping when competitive conditions exist in load pockets. PJM states that it also provided a further justification for its jointly pivotal supplier competitiveness standard.

PJM states that copies of its filing were served upon all persons on the Commission's service list for this proceeding.

Comment Date: 5 p.m. eastern time on August 6, 2004.

5. Exelon Corporation

[Docket No. EL04-120-000]

Take notice that on July 16, 2004, Exelon Corporation (Exelon), on behalf of its subsidiary Commonwealth Edison Company (ComEd) and ComEd's subsidiary Commonwealth Edison Company of Indiana (ComEd of Indiana), filed a petition for declaratory order. The petition seeks a declaration that ComEd of Indiana may pay a dividend of $30 million to ComEd without violating section 305(a) of the Federal Power Act, 16 U.S.C. 825d(a).

Exelon states that a copy of the filing was served upon the Illinois State Commission.

Comment Date: 5 p.m. eastern time on August 6, 2004.

6. GWF Energy LLC

[Docket No. ER01-2233-002]

Take notice that, on July 19, 2004, GWF Energy LLC (GWF) submitted a compliance filing pursuant to the Commission's order issued July 18, 2001, in GWF Energy LLC, Docket No. ER01-2233-000 and pursuant to Investigation of Terms and Conditions of Public Utility Market-Based Rate Authorizations, 105 FERC ¶ 61,218 (2003). GWF states that the compliance filing consists of an updated market power analysis and updated tariff sheets.

GWF states that copies of the filing were served on parties on the official service list in the above-captioned proceeding.

Comment Date: 5 p.m. eastern time on August 9, 2004.

7. Commonwealth Edison Company

[Docket Nos. ER04-790-001 and ER04-801-001]

Take notice that on July 19, 2004, Commonwealth Edison Company tendered for filing a response to the Commission's deficiency letter issued June 18, 2004, in Docket Nos. ER04-790-000 and ER04-801-000.

Comment Date: 5 p.m. eastern time on August 9, 2004.

8. PJM Interconnection, L.L.C. [Docket Nos. ER04-892-001 and ER04-893-001 (not consolidated)]

Take notice that on July 14, 2004, PJM Interconnection, L.L.C. (PJM) filed an amendment to provide additional information in connection with executed network integration transmission service agreements (NITSA) with the Cities of St. Charles, Illinois (St. Charles) and Batavia, Illinois (Batavia). These agreements were originally filed on May 28, 2004, in Docket Nos. ER04-892-000 and ER04-893-000, respectively.

PJM states that copies of this filing were served upon all persons on the Commission's official service lists for Docket Nos. ER04-892-000 and ER04-893-000.

Comment Date: 5 p.m. eastern time on August 4, 2004.

9. Southern California Edison Company

[ Docket No. ER04-1028-000]

Take notice that on June 19, 2004, Southern California Edison Company (SCE) submitted for filing revised rate sheets (Revised Sheets) to the Letter Agreement (Agreement) between SCE and the City of Corona, California (Corona), Service Agreement No. 99 under FERC Electric Tariff, First Revised Volume No. 5. SCE requests an effective date of July 20, 2004.

SCE states that copies of the filing were served upon the Southern California Edison Company's jurisdictional customers, Corona and the Public Utilities Commission of the State of California.

Comment Date: 5 p.m. eastern time on August 9, 2004.

10. NorthWestern Energy

[Docket No. ER04-1029-000]

Take notice that on July 19, 2004, NorthWestern Corporation, doing business as NorthWestern Energy, (NorthWestern Energy) tendered for filing executed amendments to all its Firm Point-to-Point Transmission Service Agreements under NorthWestern Energy's open access transmission tariff. These agreements include Service Agreements with the following eight customers: the City of Miller, South Dakota; the City of Bryant, South Dakota; the City of Langford, South Dakota; the State of South Dakota—South Dakota Human Services Center; the State of South Dakota—Mike Durfee State Prison; the State of South Dakota—South Dakota Developmental Center; the State of South Dakota—Northern State University; and the City of Aberdeen, South Dakota. NorthWestern Energy requests an effective date of January 1, 2004, or March 1, 2004, as specified in the amendment.

NorthWestern Energy states that a copy of this filing has been served on the Cities of Langford, Aberdeen, Bryant Miller, and the State of South Dakota.

Comment Date: 5 p.m. eastern time on August 9, 2004.

11. NorthWestern Energy

[Docket No. ER04-1030-000]

Take notice that on July 19, 2004, NorthWestern Corporation, doing business as NorthWestern Energy, (NorthWestern Energy) tendered for filing an executed electric service agreement emergency-type service between NorthWestern Energy and East River Electric Power Cooperative, Inc. (East River) entered into as of March 3, 2004, to be designated as NorthWestern Energy's Electric Rate Schedule FERC No. 36. NorthWestern requests an effective date of March 3, 2004. NorthWestern Energy states that a copy of this filing has been served on the East River.

Comment Date: 5 p.m. eastern time on August 9, 2004.

12. NorthWestern Energy

[Docket No. ER04-1031-000]

Take notice that on July 19, 2004, NorthWestern Corporation, doing business as NorthWestern Energy (NorthWestern), tendered for filing tariff sheets in compliance with the Commission's Order No. 614 for NorthWestern's currently effective rate schedules and service agreements.

Comment Date: 5 p.m. eastern time on August 9, 2004.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. eastern time on August 11, 2004.

Magalie R. Salas,
Secretary.

[FR Doc. E4-1680 Filed 7-29-04; 8:45 am]

BILLING CODE 6717-01-P